DEPARTMENT OF DEFENSE

Department of the Navy

Meeting of the Secretary of the Navy Advisory Panel; Cancellation

AGENCY: Department of the Navy, DoD.

ACTION: Notice of cancellation.

SUMMARY: The Department of the Navy announces the cancellation of the Secretary of the Navy Advisory Panel's partially closed meeting on April 18, 2013 from 8:30 a.m. to 4 p.m., as published in the Federal Register, March 28, 2013.

FOR FURTHER INFORMATION CONTACT: CAPT Peter J. Brennan, SECNAV Advisory Panel, Office of the Deputy Under Secretary of the Navy (Plans, Policy, Oversight & Integration), 1000 Navy Pentagon, Washington, DC 20350-1000, 703-695-3032.

Dated: March 28, 2013.
L.R. Almand,
Office of the Judge Advocate General, U.S. Navy, Alternate Federal Register Liaison Officer.

[FR Doc. 2013-07830 Filed 4-2-13; 8:45 am]

BILLING CODE 3810-FF-P